DEPARTMENT OF TRANSPORTATION

Federal Aviation Administration

14 CFR Part 71

[Airspace Docket No. 99-AWA-10]

RIN 2120-AA66

Revocation of the El Toro Marine Corps Air Station (MCAS) Class C Airspace Area, and Revision of the Santa Ana Class C Airspace Area; CA

AGENCY: Federal Aviation Administration (FAA), DOT.

ACTION: Final rule.

SUMMARY: This action revokes the El Toro MCAS, CA, Class C airspace area and removes references to the El Toro MCAS Class C airspace area in the description of the Santa Ana, CA, Class C airspace area. The FAA is taking this action due to the closure of the El Toro MCAS air traffic control (ATC) facilities. This action does not change the dimensions, operating requirements, or flight paths of the current Santa Ana Class C airspace area.

EFFECTIVE DATE: 0601 UTC, June 15, 2000.

FOR FURTHER INFORMATION CONTACT: Ken McElroy, Airspace and Rules Division, ATA-400, Office of Air Traffic Airspace Management, FAA, 800 Independence Avenue, SW., Washington, DC 20591; telephone: (202) 267-8783.

SUPPLEMENTARY INFORMATION:

Background

As a result of the Base Realignment and Closure (BRAC) recommendations and decisions, effective July 2, 1999, the United States Marine Corps permanently terminated ATC service at the El Toro MCAS. On November 5, 1999 , the FAA published an NPRM (64 FR 60388) that proposed to revoke the El Toro MCAS, CA, Class C airspace area and remove references to the El Toro MCAS from the Santa Ana, CA, Class C airspace area description. Interested parties were invited to participate in this rulemaking effort by submitting comments on the proposal to the FAA.

Public Input

On November 5, 1999, the FAA published a notice of proposed rulemaking (NPRM) in the Federal Register (Airspace Docket 99-AWA-10; 64 FR 60388) proposing to revoke the El Toro MCAS Class C airspace area and revise the Santa Ana Class C airspace area, CA. The comment period for this NPRM closed on December 23, 1999.

No comments were received during the comment period. However, on January 31, 2000, one comment was received, objecting to the proposed revocation of the El Toro Class C airspace area, from the Orange County El Toro Local Redevelopment Authority (herein after referred to as “The Authority”) on behalf of the County of Orange. The Authority requested that the FAA temporarily suspend the current Class C airspace area, due to ongoing planning activities to convert the former MCAS El Toro into a commercial airport, and continue to chart the area. The Authority is of the belief that by retaining the airspace as is, the need to re-chart the airspace for a proposed commercial airport and possible environmental studies by the FAA under the National Environmental Protection Agency (NEPA) would be eliminated. The commentor also stated it would be consistent with historical practice to maintain the regulatory airspace since the airspace in question was only effective during published hours.

The FAA does not agree with this commentor. It is FAA policy to work with local aviation interests to ascertain whether future changes should be considered to better accommodate all airspace users. The FAA establishes Class C airspace areas when it is determined that they will improve safety and enhance the management of aircraft operations. The FAA does not maintain regulatory airspace based on planning activities for proposed airports. If operations at the former MCAS meet the requirements for the establishment of regulatory airspace, the FAA would initiate rulemaking action to propose any required changes in the airspace area classification.

Further, the FAA does not necessarily agree that there will be a need for an environmental study of this airspace area. The FAA has determined that regulatory airspace areas established to improve safety and/or manage aircraft operations qualifies for categorical exclusion from environmental review in accordance with FAA Order 1050.1, Policies and Procedures for Considering Environmental Impacts.

The Rule

This action amends 14 CFR part 71 by revoking the Class C airspace area designated as the “El Toro MCAS, CA” Class C airspace area. The removal is necessary due to the closure of the ATC facilities at the El Toro MCAS and will revert the current Class C airspace to Class E controlled airspace. This action also revises the Santa Ana, CA, Class C airspace area, by removing references to the El Toro MCAS from the description. These actions merely revoke the Class C airspace area designation for the El Toro MCAS and revises the description for the Santa Ana, CA, Class C airspace area, but does not change the dimensions, operating requirements, or flight patterns in the Santa Ana, CA, area.

The FAA has determined that this regulation only involves an established body of technical regulations for which frequent and routine amendments are necessary to keep them operationally current. Therefore, this action: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The coordinates for this airspace docket are based on North American Datum 83. Class C airspace areas are published in paragraph 4000 of FAA Order 7400.9G, dated September 1, 1999, and effective September 16, 1999, which is incorporated by reference in 14 CFR 71.1. The Class C airspace area listed in this document will be published subsequently in the Order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 4000—Subpart C—Class C Airspace.

* * * * *

AWP CA C El Toro MCAS, CA [Removed]

* * * * *

AWP CA C Santa Ana, CA [Revised]

John Wayne Airport/Orange County, CA

(lat. 33°40′32″ N., long. 117°52′06″ W.)

That airspace extending upward from the surface to and including 4,400 feet MSL within a 5-mile radius of the John Wayne Airport/Orange County excluding that airspace east of a line between lat. 33°44′12″ N., long. 117°48′00″ W.; and lat. 33°36′55″ N., long. 117°47′58″ W.; and that airspace extending upward from 2,500 feet MSL to and including 4,400 feet MSL within a 10-mile radius of the John Wayne Airport/Orange County, west of a line from lat. 33°36′55″ N., long. 117°47′58″ W.; to lat. 33°31′09″ N., long. 117°47′56″ W. clockwise to the 175° bearing from John Wayne Airport/Orange County; and that airspace extending upward from 1,500 feet MSL to and including 4,400 feet MSL within a 10-mile radius of John Wayne Airport/Orange County from the 175° bearing clockwise to the 201° bearing from John Wayne Airport/Orange County; and that airspace extending upward from 3,500 feet MSL to and including 5,400 feet MSL within a 10-mile radius of John Wayne Airport/Orange County from the 201° bearing from the airport to the shoreline, excluding that airspace west of a line from the 351° bearing from John Wayne Airport/Orange County to the 251° bearing from John Wayne Airport/Orange County; and that airspace extending upward from 2,500 feet MSL to and including 5,400 feet MSL within a 10-mile radius of John Wayne Airport/Orange County from the shoreline to the San Diego Freeway (I-405), excluding that airspace west of a line from the 351° bearing from John Wayne Airport/Orange County to the 251° bearing from John Wayne Airport/Orange County; and that airspace extending upward from 2,500 feet MSL to and including 4,400 feet MSL within a 10-mile radius of John Wayne Airport/Orange County from the San Diego Freeway clockwise to the 360° bearing from the John Wayne Airport/Orange County, excluding that airspace west of a line from the 351° bearing from John Wayne Airport/Orange County to the 251° bearing from John Wayne Airport/Orange County; and that airspace extending upward from 2,000 feet MSL to and including 4,400 feet MSL within a 10-mile radius of John Wayne Airport/Orange County from the 360° bearing from the John Wayne Airport/Orange County clockwise to a line from lat. 33°49′58″ N., long. 117°48′02″ W.; to lat. 33°44′12″ N., long. 117°48′00″ W. This Class C airspace area is effective during the specific days and hours of operation of the Orange County Tower and Approach Control as established in advance by a Notice to Airmen. The effective dates and times will thereafter be continuously published in the Airport/Facility Directory.

* * * * *

Issued in Washington, DC on February 15, 2000.
Reginald C. Matthews,
Manager, Airspace and Rules Division.

[FR Doc. 00-4226 Filed 2-22-00; 8:45 am]

BILLING CODE 4910-13-P